DEPARTMENT OF DEFENSE

Office of the Secretary

[Docket ID: DoD-2025-OS-0112]

Privacy Act of 1974; System of Records

AGENCY: Department of Defense (DoD).

ACTION: Rescindment of a system of records notice (SORN).

SUMMARY: In accordance with the Privacy Act of 1974, the DoD is providing notice to rescind a SORN titled Military Spouse Employment Partnership (MSEP) Career Portal, DPR 47 DoD.

DATES: The rescindment of this SORN is effective upon publication; however, comments will be accepted on or before August 13, 2025.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Division, Directorate for Privacy and Civil Liberties, Office of the Assistant to the Secretary of Defense for Privacy, Civil Liberties, and Transparency, Department of Defense, 4800 Mark Center Drive, Mailbox #24, Suite 05F16, Alexandria, VA 22350-1700, OSD.DPCLTD@mail.mil, (703) 571-0070.

SUPPLEMENTARY INFORMATION: Pursuant to the provisions of the Privacy Act of 1974, 5 U.S.C. 552a, the DoD is rescinding the Military Spouse Employment Partnership (MSEP) Career Portal, DPR 47 DoD system of records from its inventory. This system of records is being rescinded because the records are now maintained as part of the Military Spouse Education, Career Opportunities, and Employment Partnership, DPR 46 DoD, published elsewhere in today's issue of the Federal Register.

System Name and Number: Military Spouse Employment Partnership (MSEP) Career Portal, DPR 47 DoD.

History: March 19, 2018; 83 FR 11994.

Dated: July 10, 2025.
Aaron T. Siegel,
Alternate OSD Federal Register Liaison Officer, Department of Defense.

[FR Doc. 2025-13142 Filed 7-11-25; 8:45 am]

BILLING CODE 6001-FR-P